FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 15, 2017.

A. Federal Reserve Bank of Minneapolis (Brendan S. Murrin, Assistant Vice President) 90 Hennepin Avenue, Minneapolis, Minnesota 55480-0291:

1. Scott H. Soderberg, Eden Prairie, Minnesota, individually and as trustee of the Elizabeth Ann Soderberg Irrevocable Trust dated 12/20/12, New Richmond, Wisconsin, and Elizabeth A. Soderberg, Minnetonka, Minnesota, individually and as trustee of the Scott H. Soderberg Irrevocable Trust dated 12/20/12, New Richmond, Wisconsin; to acquire voting shares of One Corporation and thereby indirectly acquire shares of First National Community Bank, both of New Richmond, Wisconsin.

B. Federal Reserve Bank of Kansas City (Dennis Denney, Assistant Vice President) 1 Memorial Drive, Kansas City, Missouri 64198-0001:

1. Robert L. Lampert Trust No. 1 and the Andra V. Lampert Trust No. 1, both of Beloit, Kansas; individually and part of the Lamber Family Group to retain voting shares of First National Bankshares of Beloit, Inc. (the company), and thereby indirectly retain shares of The First National Bank of Beloit, both of Beloit, Kansas. Additionally, the Larry D. Lampert Trust No. 1, Beloit, Kansas, to join the the Lampert Family Group, which acting in concert controls the company.

Board of Governors of the Federal Reserve System, July 26, 2017.
Yao-Chin Chao,
Assistant Secretary of the Board.

[FR Doc. 2017-16065 Filed 7-28-17; 8:45 am]

BILLING CODE 6210-01-P